DEPARTMENT OF DEFENSE

Office of the Secretary

Charter Amendment of the U.S. Army Science Board

AGENCY: Department of Defense.

ACTION: Amendment of Federal Advisory Committee.

SUMMARY: The Department of Defense (DoD) is publishing this notice to announce that it is amending the charter for the U.S. Army Science Board (“the Board”).

FOR FURTHER INFORMATION CONTACT: Jim Freeman, Advisory Committee Management Officer for the Department of Defense, 703-692-5952.

SUPPLEMENTARY INFORMATION: The Board's charter is being amended in accordance with the Federal Advisory Committee Act (FACA) (5 U.S.C., Appendix) and 41 CFR 102-3.50(d). The DoD is amending the Board's current charter, which was previously announced in the Federal Register on May 18, 2018 (83 FRN 23621), to add the “Army Science Board Chief of Engineers' Environmental Advisory Board Subcommittee” as a permanent subcommittee. As stated in the Board's new charter, the Army Science Board Chief of Engineers' Environmental Advisory Board Subcommittee shall consist of no more than 10 members who are eminent authorities in the fields of natural, social, and related sciences to focus on matters relating to U.S. Army Corps of Engineers' Military and Civil Works programs.

The Army Science Board Chief of Engineers' Environmental Advisory Board Subcommittee shall not work independently of the Board and shall report all of their advice and recommendations solely to the Board for its deliberation and discussion. The Army Science Board Chief of Engineers' Environmental Advisory Board Subcommittee has no authority to make decisions and recommendations, verbally or in writing, on behalf the Board. Furthermore, no subcommittee member can provide updates or report, verbally or in writing, directly to the DoD or to any Federal officer or employee.

Individual members of the Board, including its five subcommittees, shall be appointed according to DoD policy and procedures to serve a term of service of one-to-four years with annual renewals. Leadership appointments for the Board and its subcommittees shall be selected from among previously approved members of the Board or subcommittee, in question, for one-to-two years of service, with annual renewal, which shall not exceed the individual's Board or subcommittee appointment, as appropriate.

Members of the Board and its subcommittees who are not full-time or permanent part-time Federal officers or employees, or members of the Armed Forces will be appointed as experts or consultants, pursuant to 5 U.S.C. 3109, to serve as special government employee members. Board members who are full-time or permanent part-time Federal officers or employees, or members of the Armed Forces will be appointed, pursuant to 41 CFR 102-3.130(a), to serve as regular government employee members.

All members of the Board and its subcommittees are appointed to provide advice on the basis of his or her best judgment without representing any particular point of view and in a manner that is free from conflict of interest. Except for reimbursement of official Board-related travel and per diem, members serve without compensation.

The public or interested organizations may submit written statements to the Board's membership about its mission and functions. Written statements may be submitted at any time or in response to the stated agenda of planned meeting of the Board. All written statements should be submitted to the Board's Designated Federal Officer (DFO), who will ensure that the written statements are provided to the membership for consideration.

The Board's charter and contact information for the DFO can be found at https://www.facadatabase.gov/FACA/apex/FACAPublicAgencyNavigation.

Dated: August 22, 2019.
Aaron T. Siegel,
Alternate OSD Federal Register Liaison Officer, Department of Defense.

[FR Doc. 2019-18411 Filed 8-26-19; 8:45 am]

BILLING CODE 5001-06-P